DEPARTMENT OF ENERGY

Federal Energy Regulatory Commission

[Project No. 2354-10]

Chandra Coffee and Rabun Boatworks, Complainants v. Georgia Power Company, Respondent; Notice of Complaint

February 3, 2010.

Take notice that on December 14, 2009, as amended on January 8, 2010, Chandra Coffee and Rabun Boatworks (Complainants) filed with the Federal Regulatory Commission (Commission or FERC) a complaint against Georgia Power Company (Respondent), licensee of the North Georgia Hydroelectric Project No. 2354. Complainants own and operate a storage and boat rental business approximately one mile from Lake Rabun. Complainants, after contracting with boating customers off-site, place boats in the water, assist in loading and unloading boaters, and facilitate retrieval of boats from the water at the Lake Rabun Recreation Area. Complainants allege that Respondent has impermissibly denied them access to the public boat ramp at the Lake Rabun Recreation Area, part of the Respondent's North Georgia Project. Complainants request that the Commission investigate and assert that Respondent has not complied with its FERC license.

Complainants certify that a copy of the complaint was served on counsel for Georgia Power Company.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on February 23, 2010.

Kimberly D. Bose,
Secretary.

[FR Doc. 2010-3097 Filed 2-18-10; 8:45 am]

BILLING CODE 6717-01-P